DEPARTMENT OF STATE

[Public Notice 3340]

Bureau of Nonproliferation; Determination Under the Foreign Assistance Act

AGENCY: Department of State.

ACTION: Notice.

SUMMARY: Pursuant to section 654(c) of the Foreign Assistance Act of 1961, as amended (22 U.S.C. 2378), notice is hereby given that the Acting Assistant Secretary of State for Nonproliferation has made a determination pursuant to section 620H of the Foreign Assistance Act of 1961, as amended (22 U.S.C. 2378), and section 549 of the Foreign Operations, Export Financing, and Related Programs Appropriations Act, 2000 (enacted by reference in P.L. 106-113), and analogous provisions in previous year Foreign Operations, Export Financing, and related Programs Appropriations Acts, and has concluded that publication of the determination would be harmful to the national security of the United States.

Dated: June 14, 2000.
John P. Barker,
Acting Assistant Secretary of State for Nonproliferation.

[FR Doc. 00-15960 Filed 6-22-00; 8:45 am]

BILLING CODE 4710-25-U